BUREAU OF CONSUMER FINANCIAL PROTECTION

[Docket No. CFPB-2021-0010]

Agency Information Collection Activities: Comment Request

AGENCY: Bureau of Consumer Financial Protection.

ACTION: Notice and request for comment.

SUMMARY: In accordance with the Paperwork Reduction Act of 1995 (PRA), the Bureau of Consumer Financial Protection (Bureau) is publishing this notice seeking comment on a Generic Information Collection titled “Experiment in Effective Consumer Financial Disclosures” prior to requesting the Office of Management and Budget's (OMB's) approval of this collection under the Generic Information Collection Plan “Generic Information Collection Plan for Studies of Consumers using Controlled Trials in Field and Economic Laboratory Settings” OMB Control number 3170-0048.

DATES: Written comments are encouraged and must be received on or before May 26, 2021 to be assured of consideration.

ADDRESSES: You may submit comments, identified by the title of the information collection, OMB Control Number (see below), and docket number (see above), by any of the following methods:

• Federal eRulemaking Portal: http://www.regulations.gov. Follow the instructions for submitting comments.

• Email: PRA_Comments@cfpb.gov. Include Docket No. CFPB-2021-0010 in the subject line of the email.

• Mail/Hand Delivery/Courier: Comment intake, Bureau of Consumer Financial Protection (Attention: PRA Office), 1700 G Street NW, Washington, DC 20552.

Please note that due to circumstances associated with the COVID-19 pandemic, the Bureau discourages the submission of comments by mail, hand delivery, or courier. Please note that comments submitted after the comment period will not be accepted. In general, all comments received will become public records, including any personal information provided. Sensitive personal information, such as account numbers or Social Security numbers, should not be included.

FOR FURTHER INFORMATION CONTACT: Documentation prepared in support of this information collection request is available at www.regulations.gov. Requests for additional information should be directed to Suzan Muslu, Data Governance Program Manager, at (202) 435-9267, or email: CFPB_PRA@cfpb.gov. If you require this document in an alternative electronic format, please contact CFPB_Accessibility@cfpb.gov. Please do not submit comments to these email boxes.

SUPPLEMENTARY INFORMATION:

Title of Collection: “Experiment in Effective Consumer Financial Disclosures.”

OMB Control Number: 3170-0048.

Type of Review: Request for approval of a generic information collection under an existing Generic Information Collection Plan.

Affected Public: Individuals.

Estimated Number of Respondents: 315.

Estimated Total Annual Burden Hours: 368.

Abstract: We plan on collecting economic data for a paper using a lab experiment comparing two disclosure styles. We will collect data on the choices respondents make given these different disclosures in order to understand which disclosure helps respondents make better choices. There is a survey at the end asking participants about risk preferences, age, gender, income, family income, college major, and primary language. These responses will be used to better understand how each subgroup performs given each disclosure. Faculty members at Gettysburg College will run the experiment in their Experimental Economics Lab where students of the college will complete the experiment on laboratory computers.

Request for Comments: The Bureau is publishing this notice and soliciting comments on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be submitted to OMB as part of its review of this request. All comments will become a matter of public record.

Dated: April 20, 2021.
Suzan Muslu,
Data Governance Program Manager, Bureau of Consumer Financial Protection.

[FR Doc. 2021-08561 Filed 4-23-21; 8:45 am]

BILLING CODE 4810-AM-P